DEPARTMENT OF AGRICULTURE

Forest Service

Public Meetings of the Black Hills National Forest Advisory Board

AGENCY: Forest Service, USDA.

ACTION: Notice of meeting.

SUMMARY: The Black Hills National Forest Advisory Board (NFAB) will hold meetings to become informed about Black Hills Naitonal Forest issues and to reach consensus on those issues so as to make management recommendations to the forest supervisory. The meetings are open, and the public may attend any part of the meetings. The May 28 agenda includes a presentation on the Phase II Amendment to the Black Hills National Forest 1997 Land and Resource Management Plan.

DATES: The meetings will be held on the following dates:

Wednesday, May 28, 2003 from 1 to 6 p.m.

Friday, July 11, 2003 from 1 to 6 p.m.

Wednesday, August 20, 2003 from 1 to 6 p.m.

Wednesday, September 17, 2003 from 1 to 6 p.m.

Wednesday, October 15, 2003 from 1 to 6 p.m.

Wednesday, November 19, 2003 from 1 to 6 p.m.

ADDRESSES: The meetings will take place at the Alex Johnson Hotel located at 523 Sixth Street, Rapid City, SD.

FOR FURTHER INFORMATION CONTACT: Frank Carroll, Black Hills National Forest, 25041 North Highway 16, Custer, SD, 57730, (605) 673-9200.

Dated: May 6, 2003.
David M. Thom,
Acting Black Hills National Forest Supervisor.

[FR Doc. 03-12105 Filed 5-14-03; 8:45 am]

BILLING CODE 3410-11-M